Title 3—

The President

Proclamation 8999 of July 25, 2013

Anniversary of the Americans with Disabilities Act, 2013

By the President of the United States of America

A Proclamation

More than two centuries ago, our forebears began an unending journey to form a more perfect Union. Twenty-three years ago, we took a historic step down that path with the Americans with Disabilities Act (ADA)—a landmark law that seeks to extend the promise of equal opportunity enshrined in our founding documents.

It promises equal access, from the classroom to the workplace to the transportation required to get there. It promises fairness, and the chance to live a full and independent life. It affords Americans with disabilities the protections they need to claim a future worthy of their talents.

Today, we celebrate the ADA's lasting legacy as a pillar of civil rights. We also recognize that while the law continues to move America forward, our march to equality is not yet complete. Even now, barriers still keep too many people with disabilities from fully participating in our society and our workforce. Our country suffers when our citizens are denied the chance to strengthen our economy, support their families, and fully participate in our American life.

That is why my Administration is dedicated to leveling the playing field for Americans with disabilities. We are committed to making the Federal Government a model employer by recruiting, hiring, and retaining more workers with disabilities than at any time in our Nation's history. In addition, we are working to connect people with disabilities to jobs in every part of our economy.

To get those jobs, students with disabilities need an education system that works for them. We must ensure lessons are inclusive, assessments are fair, and technology is accessible. We must rededicate ourselves to building supportive classrooms and putting an end to bullying that all too often targets young people with disabilities.

My Administration is bringing the same commitment to our health care system. The Affordable Care Act already made it illegal for insurers to deny coverage to children with disabilities because of pre-existing conditions, medical history, or genetic information. On January 1, 2014, the same will be true for all Americans. Alongside those protections, we have strengthened Medicare and Medicaid and ramped up programs to encourage community living and supportive services.

Together, we have come a long way toward ensuring equal opportunity for all. On this anniversary, let us recommit to going the rest of the distance. Let us enforce the ADA, promote disability rights at home and abroad, and make America a place that values the contributions of all our citizens—regardless of disability.

NOW, THEREFORE, I, BARACK OBAMA, President of the United States of America, by virtue of the authority vested in me by the Constitution and the laws of the United States, do hereby proclaim July 26, 2013, the Anniversary of the Americans with Disabilities Act. I encourage Americans across our Nation to celebrate the 23rd anniversary of this civil rights law and the many contributions of individuals with disabilities.

IN WITNESS WHEREOF, I have hereunto set my hand this twenty-fifth day of July, in the year of our Lord two thousand thirteen, and of the Independence of the United States of America the two hundred and thirty-eighth.

[FR Doc. 2013-18534

Filed 7-30-13; 8:45 am]

Billing code 3295-F3